DEPARTMENT OF ENERGY

Federal Energy Regulatory Commission

Combined Notice of Filings #1

Take notice that the Commission received the following electric corporate filings:

Docket Numbers: EC20-102-000.

Applicants: Terra-Gen Power Holdings II, LLC, Golden NA Power Holdings LLC, Energy Capital Partners III, LLC.

Description: Application for Authorization Under Section 203 of the Federal Power Act, et al. of Terra-Gen Power Holdings II, LLC, et al.

Filed Date: 9/15/20.

Accession Number: 20200915-5141.

Comments Due: 5 p.m. ET 10/6/20.

Take notice that the Commission received the following exempt wholesale generator filings:

Docket Numbers: EG20-245-000.

Applicants: Townsite Solar, LLC.

Description: Notice of Self-Certification of Exempt Wholesale Generator Status of Townsite Solar, LLC.

Filed Date: 9/15/20.

Accession Number: 20200915-5041.

Comments Due: 5 p.m. ET 10/6/20.

Take notice that the Commission received the following electric rate filings:

Docket Numbers: ER11-2154-011.

Applicants: Twin Eagle Resource Management, LLC.

Description: Second Amendment to March 30, 2020 and April 2, 2020 Notice of Change in Status of Twin Eagle Resource Management, LLC.

Filed Date: 8/20/20.

Accession Number: 20200820-5149.

Comments Due: 5 p.m. ET 9/28/20.

Docket Numbers: ER17-104-006; ER17-105-006.

Applicants: Broadview Energy JN, LLC, Broadview Energy KW, LLC.

Description: Notice of Change in Status of Broadview Energy JN, LLC, et al.

Filed Date: 9/15/20.

Accession Number: 20200915-5119.

Comments Due: 5 p.m. ET 10/6/20.

Docket Numbers: ER18-1247-001.

Applicants: Entergy Arkansas, Inc.

Description: Report Filing: EAL Refund Report (ER18-1247-001) to be effective N/A.

Filed Date: 9/16/20.

Accession Number: 20200916-5056.

Comments Due: 5 p.m. ET 10/7/20.

Docket Numbers: ER18-1639-007.

Applicants: Constellation Mystic Power, LLC.

Description: Compliance filing: Revised Mystic Agreement Compliance Filing to be effective 6/1/2022.

Filed Date: 9/15/20.

Accession Number: 20200915-5070.

Comments Due: 5 p.m. ET 10/6/20.

Docket Numbers: ER20-1958-001.

Applicants: Puget Sound Energy, Inc.

Description: Compliance filing: Order 864 Amended Compliance Filing to be effective 1/27/2020.

Filed Date: 9/15/20.

Accession Number: 20200915-5064.

Comments Due: 5 p.m. ET 10/6/20.

Docket Numbers: ER20-2005-001.

Applicants: Midcontinent Independent System Operator, Inc.

Description: Tariff Amendment: 2020-09-16_Deficiency Response to Intermittent Resource Deliverability Filing to be effective 8/19/2020.

Filed Date: 9/16/20.

Accession Number: 20200916-5083.

Comments Due: 5 p.m. ET 10/7/20.

Docket Numbers: ER20-2878-001.

Applicants: Pacific Gas and Electric Company.

Description: Tariff Amendment: First Amendment to Wholesale Distribution Tariff Rate Case 2020 (WDT3), CCSF to be effective 11/15/2020.

Filed Date: 9/16/20.

Accession Number: 20200916-5057.

Comments Due: 5 p.m. ET 10/7/20.

Docket Numbers: ER20-2878-002.

Applicants: Pacific Gas and Electric Company.

Description: Tariff Amendment: Second Amendment to Wholesale Distribution Tariff Rate Case 2020 (WDT3), Port to be effective 11/15/2020.

Filed Date: 9/16/20.

Accession Number: 20200916-5069.

Comments Due: 5 p.m. ET 10/7/20.

Docket Numbers: ER20-2887-000.

Applicants: New York Independent System Operator, Inc., Niagara Mohawk Power Corporation.

Description: § 205(d) Rate Filing: Joint NYISO & NMPC 205 filing re: SGIA SA2544 Pattersonville Solar Facility, LLC to be effective 9/3/2020.

Filed Date: 9/16/20.

Accession Number: 20200916-5010.

Comments Due: 5 p.m. ET 10/7/20.

Docket Numbers: ER20-2888-000.

Applicants: Townsite Solar, LLC.

Description: Baseline eTariff Filing: Townsite Solar, LLC MBR Tariff to be effective 9/17/2020.

Filed Date: 9/16/20.

Accession Number: 20200916-5043.

Comments Due: 5 p.m. ET 10/7/20.

Docket Numbers: ER20-2889-000.

Applicants: Alabama Power Company.

Description: § 205(d) Rate Filing: Swallowtail Solar LGIA Filing to be effective 9/1/2020.

Filed Date: 9/16/20.

Accession Number: 20200916-5044.

Comments Due: 5 p.m. ET 10/7/20.

Docket Numbers: ER20-2890-000.

Applicants: California Independent System Operator Corporation.

Description: § 205(d) Rate Filing: 2020-09-16 Hybrid Resources to be effective 12/1/2020.

Filed Date: 9/16/20.

Accession Number: 20200916-5055.

Comments Due: 5 p.m. ET 10/7/20.

Docket Numbers: ER20-2891-000.

Applicants: PJM Interconnection, L.L.C.

Description: § 205(d) Rate Filing: Original WMPA, Service Agreement No. 5759; Queue No. AF2-277 to be effective 8/18/2020.

Filed Date: 9/16/20.

Accession Number: 20200916-5070.

Comments Due: 5 p.m. ET 10/7/20.

Docket Numbers: ER20-2892-000.

Applicants: Midcontinent Independent System Operator, Inc.

Description: § 205(d) Rate Filing: 2020-09-16_SA 2974 Termination of Missouri Basin-Marshall Cogen GIA (J391) to be effective 4/19/2020.

Filed Date: 9/16/20.

Accession Number: 20200916-5073.

Comments Due: 5 p.m. ET 10/7/20.

Docket Numbers: ER20-2893-000.

Applicants: PJM Interconnection, L.L.C.

Description: § 205(d) Rate Filing: Original WMPA, Service Agreement No. 5760; Queue No. AF2-278 to be effective 8/18/2020.

Filed Date: 9/16/20.

Accession Number: 20200916-5076.

Comments Due: 5 p.m. ET 10/7/20.

Docket Numbers: ER20-2894-000.

Applicants: PJM Interconnection, L.L.C.

Description: § 205(d) Rate Filing: Original WMPA, Service Agreement No. 5761; Queue No. AF2-279 to be effective 8/18/2020.

Filed Date: 9/16/20.

Accession Number: 20200916-5081.

Comments Due: 5 p.m. ET 10/7/20.

Docket Numbers: ER20-2896-000.

Applicants: New England Power Company.

Description: Notice of Cancellation of Large Generator Interconnection Agreement (First Revised Service Agreement No. IA-NEP-5), et al. of New England Power Company.

Filed Date: 9/16/20.

Accession Number: 20200916-5095.

Comments Due: 5 p.m. ET 10/7/20.

Docket Numbers: ER20-2897-000.

Applicants: New England Power Company.

Description: Notice of Cancellation of Large Generator Interconnection Agreement (First Revised Service Agreement No. IA-NEP-6), et al. of New England Power Company.

Filed Date: 9/16/20.

Accession Number: 20200916-5101.

Comments Due: 5 p.m. ET 10/7/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2020.
Nathaniel J. Davis, Sr.,
Deputy Secretary.

[FR Doc. 2020-20917 Filed 9-21-20; 8:45 am]

BILLING CODE 6717-01-P